NUCLEAR REGULATORY COMMISSION

10 CFR Parts 2, 19, 20, 21, 25, 26, 30, 31, 32, 34, 35, 36, 37, 39, 40, 50, 51, 52, 54, 55, 60, 61, 62, 63, 70, 71, 72, 73, 74, 75, 76, 81, 95, 110, 140, 150, 160, 170, and 171

[NRC-2025-0479]

RIN 3150-AL39

The Sunset Rule

AGENCY: Nuclear Regulatory Commission.

ACTION: Direct final rule; confirmation of effective date; partial withdrawal.

SUMMARY: The U.S. Nuclear Regulatory Commission (NRC) is confirming the effective date of January 8, 2026, for the direct final rule that was published in the Federal Register on December 3, 2025, except for one provision that is being withdrawn. This direct final rule amended the NRC's regulations to insert a conditional sunset date into certain regulations in response to Executive Order 14270, “Zero-Based Regulatory Budgeting to Unleash American Energy.” The NRC is withdrawing an amendment that would have established a conditional sunset date to the NRC's provisions for aircraft impact assessment.

DATES:

Partial Withdrawal: As of January 8, 2026, amendatory instruction 42 published on December 3, 2025, at 90 FR 55621, is withdrawn.

Effective Date: The effective date of January 8, 2026, for the direct final rule published December 3, 2025 (90 FR 55621), except for one amendment as described in this document, is confirmed.

ADDRESSES: Please refer to Docket ID NRC-2025-0479 when contacting the NRC about the availability of information for this action. You may obtain publicly available information related to this action by any of the following methods:

• Federal Rulemaking Website: Electronically at https://www.regulations.gov. Search for Docket ID NRC-2025-0479. Address questions about NRC dockets to Helen Chang; telephone: 301-415-3228; email: Helen.Chang@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The Federal Register notice for the direct final rule is available in ADAMS under Accession No. ML25212A164.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Howard A. Benowitz, Office of the General Counsel, U.S. Nuclear Regulatory Commission, Washington DC 20555-0001; telephone: 301-287-9112, email: Howard.Benowitz@nrc.gov.

SUPPLEMENTARY INFORMATION: On December 3, 2025 (90 FR 55621), the NRC published a direct final rule amending its regulations to insert a conditional sunset date into certain regulations in response to Executive Order 14270, “Zero-Based Regulatory Budgeting to Unleash American Energy.” In the direct final rule, the NRC stated that if no significant adverse comments were received, the direct final rule would become effective on January 8, 2026. The NRC received and docketed eleven comments on the companion proposed rule (90 FR 55699; December 3, 2025). An electronic copy of the comments can be obtained from the Federal Rulemaking website at https://www.regulations.gov under Docket ID NRC-2025-0479.

The NRC evaluated the comments against the criteria described in the direct final rule and determined that some of the comments were significant and adverse. Specifically, certain comments concerning 10 CFR 50.150, “Aircraft impact assessment,” were significant and adverse. For this reason, the NRC is removing instruction 42 to amend 10 CFR 50.150 from the direct final rule. The NRC will address comments on that proposed amendment in a final rule to be issued at a later time. Removing the change to 10 CFR 50.150 would not have any impact on the other changes in the direct final rule. No other comments on the rule raised a relevant issue that was not previously addressed or considered by the NRC. Therefore, the direct final rule, minus the amendment to 10 CFR 50.150, will become effective as scheduled.

Dated: January 6, 2026.
For the Nuclear Regulatory Commission.
Araceli Billoch Colon,
Chief, Regulatory Analysis and Rulemaking Support Branch, Division of Rulemaking, Environmental, and Financial Support, Office of Nuclear Material Safety and Safeguards.

[FR Doc. 2026-00175 Filed 1-7-26; 8:45 am]

BILLING CODE 7590-01-P